DEPARTMENT OF JUSTICE

Antitrust Division

Notice Pursuant to the National Cooperative Research and Production Act of 1993—IMS Global Learning Consortium, Inc.

Notice is hereby given that, on July 23, 2018, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, AccelerED, Bethesda, MD; Alief Independent School District, Houston, TX; Cobb County School District, Smyrna, GA; Essay Assay, Inc. dba ecree, Durham, NC; Idaho Digital Learning, Boise, ID; Italian Quality Company IQC Srl, Bologna, ITALY; Kyoto College of Graduate Studies for Informatics, Kyoto City, JAPAN; LearnPlatform, Raleigh, NC; Santillana Global, S.L., Madrid, SPAIN; University of Notre Dame, Notre Dame, IN; and Wichita State University Office for Workforce, Professional and Community Education, Wichita, KS, have been added as parties to this venture.

Also, ProExam, New York, NY; Macmillan Learning, New York, NY; Hancom Communication, Inc., Gyeonggi-do, KOREA; Fundação Getúlio Vargas, Rio de Janeiro, BRAZIL; and Cerego, San Francisco, CA, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on March 30, 2018. A notice was published in the Federal Register pursuant to Section 6(b) of the Act on April 24, 2018 (83 FR 17850).

Suzanne Morris,
Chief, Premerger and Division Statistics Unit, Antitrust Division.

[FR Doc. 2018-17280 Filed 8-10-18; 8:45 am]

BILLING CODE 4410-11-P